DEPARTMENT OF TRANSPORTATION

Federal Aviation Administration

14 CFR Part 39

[Docket No. FAA-2024-0045; Project Identifier MCAI-2023-01088-A; Amendment 39-22740; AD 2024-08-07]

RIN 2120-AA64

Airworthiness Directives; Pilatus Aircraft Ltd. Airplanes

AGENCY: Federal Aviation Administration (FAA), DOT.

ACTION: Final rule.

SUMMARY: The FAA is superseding Airworthiness Directive (AD) 2023-12-17, which applied to Pilatus Aircraft Ltd. (Pilatus) Model PC-12, PC-12/45, PC-12/47, and PC-12/47E airplanes. AD 2023-12-17 required revising the airworthiness limitation section (ALS) of the existing aircraft maintenance manual (AMM) or Instructions for Continued Airworthiness (ICA) for your airplane by introducing new and more restrictive instructions and maintenance tasks as specified in the component limitations section, which includes repetitive inspections for cracks in the lower main spar connection of the horizontal stabilizer. Since the FAA issued AD 2023-12-17, the FAA has determined that new or more restrictive airworthiness limitations are necessary. This AD requires revising the ALS of your existing AMM or ICA and your existing approved maintenance or inspection program, as applicable, as specified in a European Union Aviation Safety Agency (EASA) AD, which is incorporated by reference. The FAA is issuing this AD to address the unsafe condition on these products.

DATES: This AD is effective June 3, 2024.

The Director of the Federal Register approved the incorporation by reference of a certain publication listed in this AD as of June 3, 2024.

ADDRESSES:

AD Docket: You may examine the AD docket at regulations.gov under Docket No. FAA-2024-0045; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; phone: +49 221 8999 000; email: ADs@easa.europa.eu; website: easa.europa.eu. You may find this material on the EASA website at ad.easa.europa.eu.

• You may view this material at the FAA, Airworthiness Products Section, Operational Safety Branch, 901 Locust, Kansas City, MO 64106. For information on the availability of this material at the FAA, call (817) 222-5110. It is also available at regulations.gov under Docket No. FAA-2024-0045.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Background

The FAA issued a notice of proposed rulemaking (NPRM) to amend 14 CFR part 39 to supersede AD 2023-12-17, Amendment 39-22475 (88 FR 42604, July 3, 2023) (AD 2023-12-17). AD 2023-12-17 applied to Pilatus Model PC-12, PC-12/45, PC-12/47, and PC-12/47E airplanes. AD 2023-12-17 required incorporating new revisions to the ALS of the existing AMM or ICA for your airplane to establish new or more restrictive airworthiness limitations that include repetitive inspections for cracks in the lower main spar connection of the horizontal stabilizer. The FAA issued AD 2023-12-17 to address cracks in the lower main spar connection of the horizontal stabilizer and failure of certain parts, which could result in loss of airplane control.

The NPRM published in the Federal Register on February 2, 2024 (89 FR 7297). The NPRM was prompted by EASA AD 2023-0184, dated October 19, 2023 (EASA AD 2023-0184) (also referred to as the MCAI), issued by EASA, which is the Technical Agent for the Member States of the European Union. The MCAI states that new or more restrictive tasks and limitations have been developed. These new or more restrictive airworthiness limitations include repetitive eddy current inspections for cracks in the main landing gear yoke fitting.

You may examine the MCAI in the AD docket at regulations.gov under Docket No. FAA-2024-0045.

In the NPRM, the FAA proposed to require revising the ALS of your existing AMM or ICA and your existing approved maintenance or inspection program, as applicable, as specified in EASA AD 2023-0184. The FAA is issuing this AD to address failure of certain parts, which could result in asymmetric main landing gear failure that could lead to loss of airplane control during take-off, landing, and taxiing operations. Additionally, the actions required to address the unsafe condition in AD 2023-12-17 are included in “the applicable ALS,” as defined in EASA AD 2023-0184.

Discussion of Final Airworthiness Directive

Comments

The FAA received comments from two anonymous commenters, an individual, and the Air Line Pilots Association, International (ALPA). All commenters supported the NPRM without change.

Conclusion

These products have been approved by the aviation authority of another country and are approved for operation in the United States. Pursuant to the FAA's bilateral agreement with this State of Design Authority, it has notified the FAA of the unsafe condition described in the MCAI referenced above. The FAA reviewed the relevant data, considered the comments received, and determined that air safety requires adopting the AD as proposed. Accordingly, the FAA is issuing this AD to address the unsafe condition on these products. This AD is adopted as proposed in the NPRM.

Related Service Information Under 1 CFR Part 51

EASA AD 2023-0184 requires certain actions and associated thresholds and intervals, including life limits and maintenance tasks. EASA AD 2023-0184 also requires doing corrective actions if any discrepancy (as defined in “the applicable ALS” as defined in EASA AD 2023-0184) is found during accomplishment of any task required by paragraph (1) of EASA AD 2023-0184 and revising the aircraft maintenance program (AMP) by incorporating the limitations, tasks, and associated thresholds and intervals described in “the applicable ALS” as defined in EASA AD 2023-0184. This material is reasonably available because the interested parties have access to it through their normal course of business or by the means identified in ADDRESSES.

Differences Between This AD and the MCAI

Paragraph (1) of EASA AD 2023-0184 requires replacing each component before exceeding the applicable life limit and within the identified thresholds and intervals accomplishing all applicable maintenance tasks as specified in the applicable ALS for that airplane. Paragraph (2) of EASA AD 2023-0184 requires corrective actions in accordance with the applicable Pilatus maintenance documentation or contacting Pilatus for approved instructions and accomplishing those instructions accordingly. Paragraph (4) of EASA AD 2023-0184 provides credit for performing actions in accordance with previous revisions of the Pilatus AMM. Paragraph (5) of EASA AD 2023-0184 explains that after revision of the AMP, it is not necessary to record accomplishment of individual actions for demonstration of AD compliance. This AD does not require compliance with paragraphs (1), (2), (4), and (5) of EASA AD 2023-0184.

Costs of Compliance

The FAA estimates that this AD affects 1,030 airplanes of U.S. registry.

The FAA estimates the following costs to comply with this AD:

Estimated Costs
Action | Labor cost | Parts cost | Cost per product | Cost on U.S. operators
Revise the ALS | 1 work-hour × $85 per hour = $85 | $0 | $85 | $87,550

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2023-12-17, Amendment 39-22475 (88 FR 42604, July 3, 2023); and

b. Adding the following new airworthiness directive:

2024-08-07 Pilatus Aircraft Ltd.: Amendment 39-22740; Docket No. FAA-2024-0045; Project Identifier MCAI-2023-01088-A.

(a) Effective Date

This airworthiness directive (AD) is effective June 3, 2024.

(b) Affected ADs

This AD replaces AD 2023-12-17, Amendment 39-22475 (88 FR 42604, July 3, 2023) (AD 2023-12-17).

(c) Applicability

This AD applies to Pilatus Aircraft Ltd. Model PC-12, PC-12/45, PC-12/47, and PC-12/47E airplanes, all serial numbers, certificated in any category.

(d) Subject

Joint Aircraft System Component (JASC) Code 3211, Main Landing Gear Attach Section.

(e) Unsafe Condition

This AD was prompted by a revision to the airworthiness limitations section (ALS) of the existing aircraft maintenance manual (AMM) introducing new and more restrictive instructions and maintenance tasks as specified in the component limitations section, which include repetitive eddy current inspections for cracks in the main landing gear yoke fitting. The FAA is issuing this AD to address failure of certain parts, which could result in asymmetric main landing gear failure that could lead to loss of airplane control during take-off, landing, and taxiing operations.

(f) Compliance

Comply with this AD within the compliance times specified, unless already done.

(g) Required Actions

Except as specified in paragraphs (h) and (i) of this AD: Comply with all required actions and compliance times specified in, and in accordance with, European Union Aviation Safety Agency (EASA) AD 2023-0184, dated October 19, 2023 (EASA AD 2023-0184).

(h) Exceptions to EASA AD 2023-0184

(1) Where EASA AD 2023-0184 refers to its effective date, this AD requires using the effective date of this AD.

(2) This AD does not adopt the requirements specified in paragraphs (1), (2), (4), and (5) of EASA AD 2023-0184.

(3) Where paragraph (3) of EASA AD 2023-0184 specifies “Within 12 months after the effective date of this AD, revise the AMP,” replace that text with “Within 30 days after the effective date of this AD, revise the airworthiness limitations section of your existing airplane maintenance manual or instructions for continued airworthiness and your existing approved maintenance or inspection program, as applicable.”

(4) The initial compliance time for doing the tasks specified in paragraph (3) of EASA AD 2023-0184 is on or before the applicable “limitations” and “associated thresholds” as incorporated by the requirements of paragraph (3) of EASA AD 2023-0184 or within 30 days after the effective date of this AD, whichever occurs later.

(5) This AD does not adopt the “Remarks” section of EASA AD 2023-0184.

(i) Provisions for Alternative Actions and Intervals

No alternative actions and associated thresholds and intervals, including life limits, are allowed for compliance with paragraph (g) of this AD unless they are approved as specified in the provisions of the “Ref. Publications” section of EASA AD 2023-0184.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (k) of this AD or email to: 9-AVS-AIR-730-AMOC@faa.gov. If mailing information, also submit information by email. Before using any approved AMOC, notify your appropriate principal inspector, or lacking a principal inspector, the manager of the responsible Flight Standards Office/certificate holding district office.

(k) Additional Information

For more information about this AD, contact Doug Rudolph, Aviation Safety Engineer, FAA, 1600 Stewart Avenue, Suite 410, Westbury, NY 11590; phone: (816) 329-4059; email: doug.rudolph@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) European Union Aviation Safety Agency (EASA) AD 2023-0184, dated October 19, 2023.

(ii) [Reserved]

(3) For EASA AD 2023-0184, contact EASA, Konrad-Adenauer-Ufer 3, 50668 Cologne, Germany; phone: +49 221 8999 000; email: ADs@easa.europa.eu; website: easa.europa.eu. You may find this EASA AD on the EASA website at ad.easa.europa.eu.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on April 17, 2024.
Victor Wicklund,
Deputy Director, Compliance & Airworthiness Division, Aircraft Certification Service.

[FR Doc. 2024-09084 Filed 4-26-24; 8:45 am]

BILLING CODE 4910-13-P